DEPARTMENT OF ENERGY

Federal Energy Regulatory Commission

[Docket No. IC03-585-001, FERC-585]

Commission Information Collection Activities, Proposed Collection; Comment Request; Submitted for OMB Review

July 25, 2003.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of May 16, 2003 (68 FR 26590-91) and has made this notation in its submission to OMB.

DATES: Comments on the collection of information are due by August 25, 2003.

ADDRESSES: Address comments on the collection of information to the Office of Management and Budget, Office of Information and Regulatory Affairs, Attention: Federal Energy Regulatory Commission Desk Officer. The Desk Officer may be reached by fax at 202-395-7285 or by e-mail at pamelabeverly.oirasubmission@omb.eop.gov. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and should refer to Docket No. IC03-585-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments may be viewed, printed or downloaded remotely via the Internet through FERC's homepage using the FERRIS link. User assistance for FERRIS and the FERC's Web site during business hours by contacting, FERC Online Support at FERCOnlineSupport@ferc.gov or toll free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-585 “Reporting of Electric Energy Shortages and Contingency Plans under PURPA 206.”

2. Sponsor: Federal Energy Regulatory Commission.

3. Control No. 1902-0138.

The Commission is now requesting that OMB approve a three-year extension of the expiration date, with no changes to the existing collection. The information filed with the Commission is mandatory. Requests for confidential treatment of the information are provided for under Section 388.112 of the Commission's regulations.

1. Necessity of the Collection of Information: Submission of the information is necessary to enable the Commission to carry out its responsibilities in implementing the statutory provisions of Section 206 of the Public Utility Regulatory Policies Act of 1978 (PURPA) (Pub. L. 95-617, 92 Stat. 3117) which amended Section 202 of the Federal Power Act by adding subsection (g). Section 202(g) requires public utilities to report to the Commission, and appropriate State agencies, any unanticipated shortages of electric energy or capacity which would affect the utility's ability to serve its wholesale customers and to report and periodically revise, their contingency plans for such occurrences which would equitably accommodate both retail and wholesale customers.

The Commission uses the contingency plan information to evaluate and formulate appropriate options for action in the event an anticipated shortage is reported or materializes. The Commission also uses this information ensure itself and firm power wholesale customers that both are kept informed about utility contingency plans and anticipated shortages of energy and capacity and to ensure that direct and indirect customers would be treated without undue prejudice or disadvantage during actual shortages.

If the contingency plan data is not provided, the statutory provisions of the FPA and PUPRA will not have been complied with, and information will not be available to assess whether utilities have planned for shortage conditions and/or developed plans with due consideration for equitable customer treatment, as required by the established statute. The Commission implements these filing requirements in the Code of Federal Regulations (CFR) under 18 CFR part 294.

5. Respondent Description: The respondent universe currently comprises approximately 170 public utilities. In the normal course of a public utility's operations, contingency plans are prepared and usually reviewed and updated periodically. However, the burden on each utility will vary primarily with respect to the number and size of wholesale customers and utility system customers supplied by the reporting utility. The number of respondents is based on the actual number of responses that were received by the Commission since the last OMB submission.

6. Estimated Burden: 511 total hours, 7 respondents (average), 1 response per respondent, 73 hours per response (average).

7. Estimated Cost Burden to respondents: 511 hours/2080 hours per years × $117,041 per year = $28,753.

Statutory Authority: Sections 206 of the Public Utility Regulatory Policies Act of 1978, 16 U.S.C. 2601 (Pub. L. 95-617) and Section 202 of the Federal Power Act (16 U.S.C. 824a (g)).

Magalie R. Salas,
Secretary.

[FR Doc. 03-19599 Filed 7-31-03; 8:45 am]

BILLING CODE 6717-01-P